DEPARTMENT OF ENERGY

Federal Energy Regulatory Commission

Combined Notice of Filings #2

Take notice that the Commission received the following electric rate filings:

Docket Numbers: ER14-781-003.

Applicants: Southwest Power Pool, Inc.

Description: Compliance Filing—Docket No. ER14-781—Generator Interconnection Process to be effective 3/1/2014.

Filed Date: 7/14/14.

Accession Number: 20140714-5170.

Comments Due: 5 p.m. ET 8/4/14.

Docket Numbers: ER14-1750-001.

Applicants: Consolidated Edison Company of New York, New York Independent System Operator, Inc.

Description: Con Ed filing: first composite O&M Agrmnt No. 2013 w/NYPA—Astoria Annex to be effective 4/23/2014.

Filed Date: 7/14/14.

Accession Number: 20140714-5154.

Comments Due: 5 p.m. ET 8/4/14.

Docket Numbers: ER14-2227-000.

Applicants: El Paso Electric Company.

Description: Amendment to June 20, 2014 El Paso Electric Company tariff filing.

Filed Date: 7/10/14.

Accession Number: 20140710-5095.

Comments Due: 5 p.m. ET 7/31/14.

Docket Numbers: ER14-2417-000.

Applicants: PJM Interconnection, L.L.C.

Description: Service Agreement No. 2150; Queue No. X4-027 to be effective 6/13/2014.

Filed Date: 7/14/14.

Accession Number: 20140714-5125.

Comments Due: 5 p.m. ET 8/4/14.

Docket Numbers: ER14-2418-000.

Applicants: South Carolina Electric & Gas Company.

Description: Order No. 1000 Compliance Filing to be effective 4/19/2013.

Filed Date: 7/14/14.

Accession Number: 20140714-5130.

Comments Due: 5 p.m. ET 8/4/14.

Docket Numbers: ER14-2419-000.

Applicants: ISO New England Inc.

Description: Compliance Filing of Two-Settlement FCM Design ? Part 1 of 2 to be effective 6/9/2014.

Filed Date: 7/14/14.

Accession Number: 20140714-5158.

Comments Due: 5 p.m. ET 8/4/14.

Docket Numbers: ER14-2420-000.

Applicants: RE Columbia, LLC.

Description: New Baseline—Shared Facilities Agr and Co-Tenancy Agr (Rate Scheds 1 and 2) to be effective 9/7/2014.

Filed Date: 7/14/14.

Accession Number: 20140714-5169.

Comments Due: 5 p.m. ET 8/4/14.

Docket Numbers: ER14-2421-000.

Applicants: Infinite Energy Corporation.

Description: MBR Application to be effective 8/14/2014.

Filed Date: 7/14/14.

Accession Number: 20140714-5174.

Comments Due: 5 p.m. ET 8/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2014.
Nathaniel J. Davis, Sr.,
Deputy Secretary.

[FR Doc. 2014-17084 Filed 7-18-14; 8:45 am]

BILLING CODE 6717-01-P